SECURITIES AND EXCHANGE COMMISSION

[File No. 500-1]

In the Matter of The Village Green Bookstore, Inc.; Order of Suspension of Trading

September 23, 2004.

It appears to the Securities and Exchange Commission that there is a lack of current and accurate information concerning the securities of The Village Green Bookstore, Inc. because it has been delinquent in its periodic filing obligations under Section 13(a) of the Securities Exchange Act of 1934 since August 1997.

The Commission is of the opinion that the public interest and the protection of investors require a suspension of trading in the securities of the above-listed companies.

Therefore, it is ordered, pursuant to Section 12(k) of the Securities Exchange Act of 1934, that trading in the above-listed company is suspended for the period from 9:30 a.m. e.d.t. on September 23, 2004, through 11:59 p.m. e.d.t. on October 6, 2004.

By the Commission.
Jonathan G. Katz,
Secretary.

[FR Doc. 04-21684 Filed 9-23-04; 1:27 pm]

BILLING CODE 8010-01-P